ENVIRONMENTAL PROTECTION AGENCY

[EPA-HQ-OPP-2009-0887; FRL-9196-9; EPA ICR No. 0616.10; OMB Control No. 2070-0052]

Agency Information Collection Activities; Submission to OMB for Review and Approval; Comment Request; Compliance Requirement for Child-Resistant Packaging

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 7, 2010.

ADDRESSES: Submit your comments, referencing Docket ID No. EPA-HQ-OPP-2009-0887, to (1) EPA online using http://www.regulations.gov (our preferred method), or by mail to: EPA Docket Center, Environmental Protection Agency, OPP Regulatory Public Docket (7502P), Office of Pesticide Programs (OPP), 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Scott Drewes, Field and External Affairs Division, Office of Pesticide Programs, (7506P), Environmental Protection Agency, 1200 Pennsylvania Ave., NW., Washington, DC 20460; telephone number: 703-347-0107; fax number: 703-305-5884; e-mail address: Drewes.Scott@epa.gov.

SUPPLEMENTARY INFORMATION: EPA has submitted the following ICR to OMB for review and approval according to the procedures prescribed in 5 CFR 1320.12. On Wednesday, March 3, 2010 (75 FR 9594), EPA sought comments on this ICR pursuant to 5 CFR 1320.8(d). EPA received no comments. Any additional comments on this ICR should be submitted to EPA and OMB within 30 days of this notice.

EPA has established a public docket for this ICR under Docket ID No. EPA-HQ-OPP-2009-0887, which is available for online viewing at http://www.regulations.gov, or in person viewing at the OPP Regulatory Public Docket in Rm. S-4400, One Potomac Yard (South Building), 2777 S. Crystal Drive, Arlington, VA. This docket facility is open from 8:30 a.m. to 4 p.m., Monday through Friday, excluding legal holidays. The telephone number for the OPP Regulatory Public Docket is 703-305-5805.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Compliance Requirement for Child-Resistant Packaging.

ICR numbers: EPA ICR No. 0616.10, OMB Control No. 2070-0052.

ICR Status: This ICR is scheduled to expire on November 30, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR is designed to provide the EPA with assurances that the packaging of pesticide products sold and distributed to the general public in the United States meets standards set forth by the Agency pursuant to the Federal Insecticide, Fungicide, and Rodenticide Act (FIFRA). Unless a pesticide product qualifies for an exemption, if the product meets certain criteria regarding toxicity and use, it must be sold and distributed in child-resistant packaging. Section 25(c)(3) of FIFRA authorizes EPA to establish standards for packaging of pesticide products and pesticidal devices to protect children and adults from serious illness or injury resulting from accidental ingestion or contact. The law requires that these standards are designed to be consistent with those under the Poison Prevention Packaging Act, administered by the Consumer Product Safety Commission (CPSC). Pesticide registrants must certify to the Agency that the packaging or device meets these standards. EPA reviews a registrant's child-resistant packaging (CRP) certification to determine if there are human safety/health risk concerns. Exemption requests are reviewed to ascertain if there is a health risk, and if CRP is technically feasible, practicable, and appropriate.

Responses to this collection of information are mandatory under authority of 40 CFR part 157.34. Although submission of confidential information is not required as a part of this information collection, there has been at least one instance where confidential data have been submitted voluntarily as supporting material for an exemption request from CRP compliance requirements. When any trade secret or Confidential Business Information (CBI) is provided to EPA, such information is protected from disclosure under section 10 of FIFRA. Data submitted to EPA is handled strictly in accordance with the provisions of the FIFRA Confidential Business Information Manual.

Burden Statement: The annual public reporting and recordkeeping burden for this collection of information is estimated to average 4.2 hours per response. The ICR provides a detailed explanation of this estimate, which is only briefly summarized here, and is available in the public docket.

Respondents/Affected Entities: All registrants of pesticide products meeting the use criteria which trigger Child-Resistant Packaging (CRP) requirements.

Estimated Number of Responses: 1,165.

Frequency of Response: On Occasion.

Estimated Total Annual Hour Burden: 4,893.

Estimated Total Annual Cost: $261,237.

Changes in the Estimates: There is an increase of 1,420 hours in the total estimated burden currently identified in the OMB Inventory of Approved ICR Burdens. This increase reflects EPA's expectation of an increase in the number of responses driven by an influx of CRP certifications associated with the implementation of the registration review program. In addition, the exclusive use period for certain pesticide chemicals is expiring. Registrants with products using these chemicals will now be required to provide their own CRP test data, which will have to be reviewed for human safety/health risk concerns. The total burden hours per response for compliance with the CRP requirements decreased from 4.94 hours to 4.20 hours. The average burden estimate for CRP exemptions has increased. However, the distribution of responses has changed, resulting in a net shift from more burdensome to less burdensome type responses. This change is an adjustment.

Dated: August 28, 2010.
John Moses,
Director, Collection Strategies Division.

[FR Doc. 2010-22196 Filed 9-3-10; 8:45 am]

BILLING CODE 6560-50-P